COMMITTEE FOR PURCHASE FROM PEOPLE WHO ARE BLIND OR SEVERELY DISABLED

Procurement List: Addition and Deletions

AGENCY: Committee for Purchase From People Who Are Blind or Severely Disabled.

ACTION: Addition to and Deletions from the Procurement List.

SUMMARY: This action adds to the Procurement List a product to be furnished by nonprofit agencies employing persons who are blind or have other severe disabilities, and deletes from the Procurement List services previously furnished by such agencies.

EFFECTIVE DATE: June 15, 2008.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: Addition:

On March 21, 2008, the Committee for Purchase From People Who Are Blind or Severely Disabled published notice (73 FR15130) of proposed additions to the Procurement List.

After consideration of the material presented to it concerning capability of qualified nonprofit agencies to provide the products and impact of the additions on the current or most recent contractors, the Committee has determined that the product listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

End of Certification

Accordingly, the following product is added to the Procurement List:

Product

USCG Service/Name Tapes

NSN: 8455-00-NIB-0016—Name Tapes.

NSN: 8455-00-NIB-0017—Service Tapes.

NPA: Lions Industries for the Blind, Inc., Kinston, NC.

Coverage: C-List for the requirements of the U.S. Coast Guard.

Contracting Activity: U.S. Coast Guard, Uniform Distribution Center, Woodbine, NJ.

Deletions

On March 21, 2008, the Committee for Purchase From People Who Are Blind or Severely Disabled published notice (73 FR15130) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action should not result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Custodial Services, Social Security Administration, 2401 Lind Street, Quincy, IL.

NPA: Transitions of Western Illinois, Inc., Quincy, IL.

Contracting Activity: General Services Administration, Public Buildings Service, Region 5, Chicago, IL.

Service Type/Location: Janitorial/Custodial Services, U.S. Federal Building and Post Office, Wenatchee, WA.

NPA: Northwest Center, Seattle, WA.

Contracting Activity: General Services Administration, Public Buildings Service, Region 10.

Dennis Lockard,
General Counsel.

[FR Doc. E8-11014 Filed 5-15-08; 8:45 am]

BILLING CODE 6353-01-P